OFFICE OF PERSONNEL MANAGEMENT

Excepted Service

AGENCY: Office of Personnel Management (OPM).

ACTION: Notice.

SUMMARY: This notice identifies Schedule A, B, and C appointing authorities applicable to a single agency that were established or revoked from December 1, 2016 to December 31, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during December 2016.

Schedule B

No schedule B authorities to report during December 2016.

The following Schedule C appointing authorities were approved during December 2016.

Agency name | Organization name | Position title | Authorization No. | Effective date
DEPARTMENT OF DEFENSE | Office of Assistant Secretary of Defense (Public Affairs) | Chief Speechwriter | DD170014 | 12/08/2016
| Office of Deputy Under Secretary of Defense (Asian and Pacific Security Affairs) | Special Assistant for Afghanistan, Pakistan, and Central Asia | DD170020 | 12/20/2016
| Office of the Secretary of Defense | Advance Officer | DD170029 | 12/21/2016
|  | Confidential Assistant | DD170022 | 12/22/2016
|  | Protocol Officer (2) | DD170030 | 12/21/2016
|  |  | DD170023 | 12/28/2016
|  | Special Assistant | DD170026 | 12/28/2016
| Washington Headquarters Services | Defense Fellow | DD170024 | 12/28/2016
DEPARTMENT OF ENERGY | Office of Assistant Secretary for Energy Efficiency and Renewable Energy | Chief of Strategic Initiatives | DE170015 | 12/20/2016
| Loan Programs Office | Special Advisor for Congressional and Intergovernmental Affairs | DE170032 | 12/20/2016
DEPARTMENT OF HOMELAND SECURITY | Office of the Chief of Staff | Special Assistant | DM170043 | 12/15/2016
| Office of the Assistant Secretary for Policy | Special Assistant (2) | DM170044 | 12/15/2016
|  |  | DM170045 | 12/15/2016
| Office of the Assistant Secretary for Intergovernmental Affairs | Intergovernmental Affairs Coordinator | DM170046 | 12/22/2016
DEPARTMENT OF HOUSING AND URBAN DEVELOPMENT | Office of the Secretary | Chief of Staff/Senior Counsel | DU170003 | 12/12/2016
DEPARTMENT OF JUSTICE | Office of Public Affairs | Speechwriter | DJ170002 | 12/12/2016
OCCUPATIONAL SAFETY AND HEALTH REVIEW COMMISSION | Office of Commissioners | Counsel | SH170001 | 12/21/2016
DEPARTMENT OF STATE | Bureau of Arms Control, Verification, and Compliance | Public Affairs Specialist (2) | DS170008 | 12/06/2016
| Office of International Information Programs |  | DS170006 | 12/08/2016
| Bureau of Energy Resources | Special Assistant | DS170010 | 12/06/2016
| Office of the Under Secretary for Civilian Security, Democracy, and Human Rights | Staff Assistant | DS170015 | 12/13/2016
DEPARTMENT OF TRANSPORTATION | Office of the Secretary | Director of Advance | DT170027 | 12/22/2016

The following Schedule C appointing authorities were revoked during December 2016.

Agency name | Organization name | Position title | Request No. | Date vacated
DEPARTMENT OF AGRICULTURE | Office of Communications | Press Secretary | DA150158 | 12/02/2016
| Office of the General Counsel | Senior Counselor | DA160027 | 12/08/2016
| Office of the Assistant Secretary for Congressional Relations | Legislative Analyst | DA160009 | 12/09/2016
| Office of the Secretary | Advisor to the Secretary for Special Projects | DA160129 | 12/10/2016
| Office of the Under Secretary for Rural Development | Chief of Staff | DA160084 | 12/24/2016
| Farm Service Agency | State Executive Director—Vermont | DA130197 | 12/31/2016
| Office of Small and Disadvantaged Business Utilization | Director | DA160125 | 12/31/2016
| Rural Housing Service | State Director—Illinois | DA130131 | 12/31/2016
|  | State Director—Pennsylvania | DA130133 | 12/31/2016
DEPARTMENT OF COMMERCE | Office of the Assistant Secretary for Economic Development | Director, Office of Innovation and Entrepreneurship | DC140086 | 12/09/2016
| Office of the Director General of the United States and Foreign Commercial Service and Assistant Secretary for Global Markets | Senior Director | DC150016 | 12/20/2016
| Office of Legislative and Intergovernmental Affairs | Associate Director of Legislative and Intergovernmental Affairs | DC140164 | 12/24/2016
COMMISSION ON CIVIL RIGHTS | Office of Commissioners | Special Assistant to the Commissioner | CC090002 | 12/27/2016
DEPARTMENT OF THE AIR FORCE | Office of the Under Secretary | Special Assistant | DF150011 | 12/27/2016
FEDERAL COMMUNICATIONS COMMISSION | Wireline Competition Bureau | Public Affairs Specialist | FC140009 | 12/03/2016
| Office of Media Relations | Director of Outreach and Strategy | FC140011 | 12/24/2016
DEPARTMENT OF HEALTH AND HUMAN SERVICES | Office of the Assistant Secretary for Legislation | Special Assistant | DH160002 | 12/10/2016
| Office of the National Coordinator for Health Information Technology | Director of Communications | DH160056 | 12/16/2016
| Office of the Assistant Secretary for Public Affairs | Communications Advisor | DH160150 | 12/23/2016
DEPARTMENT OF HOUSING AND URBAN DEVELOPMENT | Office of Housing | Senior Policy Advisor | DU150008 | 12/13/2016
| Office of Public Affairs | Director of Speechwriting (2) | DU160040 | 12/16/2016
|  |  | DU150020 | 12/16/2016
|  | Special Advisor for Digital Strategy (2) | DU140050 | 12/30/2016
|  |  | DU160039 | 12/30/2016
DEPARTMENT OF THE INTERIOR | Secretary's Immediate Office | Deputy Director—Advance | DI160016 | 12/28/2016
DEPARTMENT OF JUSTICE | Office of the Attorney General | Special Assistant | DJ160019 | 12/10/2016
| Office of Public Affairs | Deputy Speechwriter | DJ150122 | 12/11/2016
OFFICE OF PERSONNEL MANAGEMENT | Office of the Director | Deputy Chief of Staff | PM160013 | 12/10/2016
|  | Senior Advisor to the Director | PM160014 | 12/10/2016
SMALL BUSINESS ADMINISTRATION | Office of Fields Operations | Regional Administrator, Region IV | SB110027 | 12/30/2016
DEPARTMENT OF TRANSPORTATION | Office of the Secretary | Special Assistant for Scheduling and Advance | DT150047 | 12/24/2016

Authority: 5 U.S.C. 3301 and 3302; E.O. 10577, 3 CFR, 1954-1958 Comp., p. 218.

Kathleen M. McGettigan,
Acting Director, Office of Personnel Management.

[FR Doc. 2017-07462 Filed 4-12-17; 8:45 am]

BILLING CODE 6325-39-P